DEPARTMENT OF DEFENSE

Department of the Air Force

US Air Force Scientific Advisory Board Notice of Meeting

AGENCY: United States Air Force Scientific Advisory Board, Department of the Air Force.

ACTION: Federal Register Meeting Notice.

SUMMARY: The Air Force Department is amending its prior notice of the meeting of the Air Force Scientific Advisory Barod that published in the Federal Register on November 27, 2017.

FOR FURTHER INFORMATION CONTACT: The Scientific Advisory Board meeting organizer, Lt Col Mike Rigoni at michael.j.rigoni.mil@mail.mil or 703-695-4297, United States Air Force Scientific Advisory Board, 1500 West Perimeter Road, Ste. #3300, Joint Base Andrews, MD 20762.

SUPPLEMENTARY INFORMATION: The Air Force is amending the meeting notice of the Air Force Scientific Advisory Board that published on Monday, November 27, 2017, 82 FR 56009. Under the provisions of the Federal Advisory Committee Act of 1972 (5 U.S.C., Appendix, as amended), the Government in the Sunshine Act of 1976 (5 U.S.C. 552b, as amended), and 41 CFR 102-3.150, the Department of Defense announces that the United States Air Force Scientific Advisory Board Winter Board meeting will take place on 23 January 2018 at the Beckman Center of National Academies of Science and Engineering, located at 100 Academy Drive, Irvine, California 92617.

The purpose of this United States Air Force Scientific Advisory Board quarterly meeting is to provide dedicated time for members to begin collaboration on research and formally commence the United States Air Force Scientific Advisory Board's two FY18 Secretary of the Air Force directed studies: (1) Technologies for Enabling Resilient Command and Control, and (2) Maintaining Technology Superiority for the USAF. At this meeting the United States Air Force Scientific Advisory Board will receive presentations covering; the status of FY18 new board members and consultants, the status of FY17 SAB study reports; the FY18 board meeting schedule; the outcome of recently completed United States Air Force Scientific Advisory Board Air Force Research Laboratory science and technology reviews; Multi-Domain Command & Control; technology development initiatives related to Air, Space, and cyberspace in the 2030 timeframe; the status of major acquisition programs; and the monetary balance between today's needs and investing in tomorrow's challenges—to prepare for full-spectrum operations.

The meeting will occur from 8:00 a.m.-4:30 p.m. on Tuesday, 23 January 2018. The session that will be open to the general public will be held from 8:00 a.m. to 9:00 a.m. on 23 January 2018.

In accordance with 5 U.S.C. 552b, as amended, and 41 CFR 102-3.155, The Administrative Assistant of the Air Force, in consultation with the Air Force General Counsel, has agreed that the public interest requires several sessions of the United States Air Force Scientific Advisory Board meeting be closed to the public because they will discuss information and matters covered by Section 552b of Title 5, United States Code, subsection (c), subparagraph (1).

Any member of the public wishing to provide input to the United States Air Force Scientific Advisory Board should submit a written statement in accordance with 41 CFR 102-3.140(c) and section 10(a)(3) of the Federal Advisory Committee Act, using the procedures described in this paragraph. Written statements can be submitted to the Designated Federal Officer at the address detailed below at any time. Statements being submitted in response to the agenda mentioned in this notice must be received by the Designated Federal Officer at the address listed below at least five calendar days prior to the meeting start date. The Designated Federal Officer will forward all requests to the Chairman of the United States Air Force Scientific Advisory Board for review and ensure a formal reply is provided before 23 January 2018.

Henry Williams,
Acting Air Force Federal Register Officer.

[FR Doc. 2017-27598 Filed 12-26-17; 8:45 am]

BILLING CODE 5001-10-P